DEPARTMENT OF ENERGY

Federal Energy Regulatory Commission

Notice of Commission Staff Attendance

The Federal Energy Regulatory Commission (Commission) hereby gives notice that members of the Commission's staff may attend the following meeting related to the transmission planning activities of the New York Independent System Operator, Inc.

The New York Independent System Operator, Inc. Electric System Planning Working Group Meeting:

January 6, 2015, 10:05 a.m.-11:25 a.m. (EST)

The above-referenced meeting will be via teleconference.

The above-referenced meeting is open to stakeholders.

Further information may be found at: http://www.nyiso.com/public/energy_future/nyiso_planning/nyiso_services/index.jsp

The discussions at the meeting described above may address matters at issue in the following proceedings:

Order No. 1000, Final Rule on Transmission Planning and Cost Allocation by Transmission Owning and Public Utilities, Order No. 1000, 136 FERC ¶ 61,051 (2011), order on reh'g and clarification, Order No. 1000-A, 139 FERC ¶ 61,132 (2012).

Docket No: ER13-102, New York Independent System Operator, Inc. and New York Transmission Owners.

For more information, contact James Eason, Office of Energy Market Regulation, Federal Energy Regulatory Commission at (202) 502-8622 or James.Eason@ferc.gov.

Dated: January 5, 2015.
Kimberly D. Bose,
Secretary.

[FR Doc. 2015-00160 Filed 1-8-15; 8:45 am]

BILLING CODE 6717-01-P